DEPARTMENT OF ENERGY

Federal Energy Regulatory Commission

Combined Notice of Filings #2

Take notice that the Commission received the following electric rate filings:

Docket Numbers: ER10-1967-010.

Applicants: Meyersdale Windpower LLC.

Description: Notice of Change in Status of Meyersdale Windpower, LLC.

Filed Date: 6/28/18.

Accession Number: 20180628-5092.

Comments Due: 5 p.m. ET 7/19/18.

Docket Numbers: ER10-2434-007; ER10-2436-007; ER10-2467-007; ER17-1666-003.

Applicants: Fenton Power Partners I, LLC, Hoosier Wind Project, LLC, Red Pine Wind Project, LLC, Wapsipinicon Wind Project LLC.

Description: Triennial Market Power Update for the Central Region of the EDFR Sellers.

Filed Date: 6/27/18.

Accession Number: 20180627-5170.

Comments Due: 5 p.m. ET 8/27/18.

Docket Numbers: ER17-1442-001.

Applicants: Axiall, LLC.

Description: Updated Market Power Analysis for Central Region of Axiall, LLC.

Filed Date: 6/28/18.

Accession Number: 20180628-5091.

Comments Due: 5 p.m. ET 8/27/18.

Docket Numbers: ER18-1609-001.

Applicants: Public Service Company of New Mexico.

Description: Compliance filing: Correction to Order No. 842 Compliance Filing to be effective 5/15/2018.

Filed Date: 6/28/18.

Accession Number: 20180628-5110.

Comments Due: 5 p.m. ET 7/19/18.

Docket Numbers: ER18-1780-001.

Applicants: Southwest Power Pool, Inc.

Description: Tariff Amendment: 1977R11 Nemaha-Marshall Electric Cooperative NITSA NOA—Amended Filing to be effective 9/1/2018.

Filed Date: 6/28/18.

Accession Number: 20180628-5020.

Comments Due: 5 p.m. ET 7/19/18.

Docket Numbers: ER18-1865-000.

Applicants: Southwest Power Pool, Inc.

Description: § 205(d) Rate Filing: 2198R25 Kansas Power Pool NITSA NOA to be effective 9/1/2018.

Filed Date: 6/28/18.

Accession Number: 20180628-5001.

Comments Due: 5 p.m. ET 7/19/18.

Docket Numbers: ER18-1866-000.

Applicants: New England Power Company.

Description: Notice of cancellation of Firm Local Generation Delivery Service Agreement (No. 122) of New England Power Company.

Filed Date: 6/27/18.

Accession Number: 20180627-5160.

Comments Due: 5 p.m. ET 7/18/18.

Docket Numbers: ER18-1867-000.

Applicants: Southwest Power Pool, Inc.

Description: § 205(d) Rate Filing: 1266R11 Kansas Municipal Energy Agency NITSA and NOA to be effective 6/1/2018.

Filed Date: 6/28/18.

Accession Number: 20180628-5005.

Comments Due: 5 p.m. ET 7/19/18.

Docket Numbers: ER18-1868-000.

Applicants: Wisconsin Public Service Corporation.

Description: Market-Based Triennial Review Filing: Central Region Triennial for Wisconsin Public Service Corp. to be effective 6/29/2018.

Filed Date: 6/28/18.

Accession Number: 20180628-5024.

Comments Due: 5 p.m. ET 8/27/18.

Docket Numbers: ER18-1869-000.

Applicants: Wisconsin River Power Company.

Description: Market-Based Triennial Review Filing: Central Region Triennial of Wisconsin River Power Co. to be effective 6/29/2018.

Filed Date: 6/28/18.

Accession Number: 20180628-5026.

Comments Due: 5 p.m. ET 8/27/18.

Docket Numbers: ER18-1870-000.

Applicants: Wisconsin Electric Power Company.

Description: Market-Based Triennial Review Filing: Central Region Triennial of Wisconsin Electric Power Co. to be effective 5/1/2017.

Filed Date: 6/28/18.

Accession Number: 20180628-5028.

Comments Due: 5 p.m. ET 8/27/18.

Docket Numbers: ER18-1871-000.

Applicants: WPS Power Development, LLC.

Description: Market-Based Triennial Review Filing: Central Region Triennial of WPS Power Development to be effective 6/29/2018.

Filed Date: 6/28/18.

Accession Number: 20180628-5031.

Comments Due: 5 p.m. ET 8/27/18.

Docket Numbers: ER18-1872-000.

Applicants: Southwest Power Pool, Inc.

Description: § 205(d) Rate Filing: 1636R21 Kansas Electric Power Cooperative, Inc. NITSA and NOA to be effective 9/1/2018.

Filed Date: 6/28/18.

Accession Number: 20180628-5035.

Comments Due: 5 p.m. ET 7/19/18.

Docket Numbers: ER18-1872-001.

Applicants: Southwest Power Pool, Inc.

Description: Tariff Amendment: 1636R21 Kansas Electric Power Cooperative, Inc. NITSA and NOA to be effective 9/1/2018.

Filed Date: 6/28/18.

Accession Number: 20180628-5118.

Comments Due: 5 p.m. ET 7/19/18.

Docket Numbers: ER18-1873-000.

Applicants: Public Service Company of Colorado.

Description: § 205(d) Rate Filing: PSCo-TSGT-SPGCY-WAPA-Intercon-Phs II-III-440-Agrmt to be effective 8/28/2018.

Filed Date: 6/28/18.

Accession Number: 20180628-5036.

Comments Due: 5 p.m. ET 7/19/18.

Docket Numbers: ER18-1874-000.

Applicants: Southwest Power Pool, Inc.

Description: § 205(d) Rate Filing: 2881R5 City of Chanute, KS NITSA NOA to be effective 9/1/2018.

Filed Date: 6/28/18.

Accession Number: 20180628-5037.

Comments Due: 5 p.m. ET 7/19/18.

Docket Numbers: ER18-1875-000.

Applicants: Tilton Energy LLC.

Description: § 205(d) Rate Filing: Request for Category 1 Seller Status in the Central Region to be effective 6/29/2018.

Filed Date: 6/28/18.

Accession Number: 20180628-5038.

Comments Due: 5 p.m. ET 7/19/18.

Docket Numbers: ER18-1876-000.

Applicants: Midcontinent Independent System Operator, Inc., Ameren Illinois Company.

Description: § 205(d) Rate Filing: 2018-06-28_SA 3130/3131 Ameren Illinois-SWEC WCA/UCA/Proj Specs No. 1&2 to be effective 6/4/2018.

Filed Date: 6/28/18.

Accession Number: 20180628-5064.

Comments Due: 5 p.m. ET 7/19/18.

Docket Numbers: ER18-1877-000.

Applicants: Arizona Public Service Company.

Description: § 205(d) Rate Filing: Service Agreement No. 366—LCWCD to be effective 6/1/2018.

Filed Date: 6/28/18.

Accession Number: 20180628-5070.

Comments Due: 5 p.m. ET 7/19/18.

Docket Numbers: ER18-1878-000.

Applicants: Southwest Power Pool, Inc.

Description: § 205(d) Rate Filing: 2415R11 Kansas Municipal Energy Agency NITSA and NOA to be effective 9/1/2018.

Filed Date: 6/28/18.

Accession Number: 20180628-5101.

Comments Due: 5 p.m. ET 7/19/18.

Docket Numbers: ER18-1879-000.

Applicants: Arizona Public Service Company.

Description: § 205(d) Rate Filing: Service Agreement No. 216—Amendment No. 4 to be effective 6/1/2018.

Filed Date: 6/28/18.

Accession Number: 20180628-5135.

Comments Due: 5 p.m. ET 7/19/18.

Take notice that the Commission received the following foreign utility company status filings:

Docket Numbers: FC18-7-000.

Applicants: Glicinia Instalaciones Fotovoltaicas, S.L.U

Description: Notification of Self-Certification of Foreign Utility Company Status of the Glicinia Solar Companies and Arce Solar Companies.

Filed Date: 6/28/18.

Accession Number: 20180628-5100.

Comments Due: 5 p.m. ET 7/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2018.
Kimberly D. Bose,
Secretary.

[FR Doc. 2018-14554 Filed 7-6-18; 8:45 am]

BILLING CODE 6717-01-P